DEPARTMENT OF HEALTH AND HUMAN SERVICES

Office of the Secretary

Availability of Funds for Community Programs to Improve Minority Health

AGENCY: Office of the Secretary, Office of Public Health and Science, Office of Minority Health, HHS.

ACTION: Notice of availability of funds and request for applications for the Community Programs to Improve Minority Health Grant Program.

Program Title: Community Programs to Improve Minority Health Grant Program.

OMB Catalog of Federal Domestic Assistance: The OMB Catalog of Federal Domestic Assistance number for the Community Programs to Improve Minority Health is 93.137.

Authority: This program is authorized under section 1707(e)(1) of the Public Health Service Act (PHS), as amended.

Purpose: The purpose of this Fiscal Year (FY) 2001 Community Programs to Improve Minority Health Grant Program is to improve the health status of targeted minority populations through health promotion and disease risk reduction intervention programs.

This program is intended to demonstrate the effectiveness of community-based coalitions in:

• Developing, implementing, and conducting demonstration projects which coordinate integrated community-based educational screening and outreach services, and include linkages for access and treatment to minorities in high-risk, low-income communities; and

• Addressing sociocultural and linguistic barriers to health care.

Eligible Applicants

To qualify for funding, an applicant must meet both the criteria listed below:

1. Be a private non-profit, minority or public community-based organization which addresses health or human services, Historically Black College or University (HBCU), Hispanic Serving Institution (HSI), or Tribal College or University (TCU); and

2. Have an established community coalition of at least three discrete organizations that include a minority community-based organization and a health care facility such as a community health center, migrant health center, health department, or medical center to provide follow-up treatment services.

The organization submitting the application will:

• Serve as the lead agency for the grant;

• Be responsible for management of the project; and

• Serve as the fiscal agent for the federal grant awarded.

Organizations are not eligible to receive funding from more than one Office of Minority Health (OMH) grant program concurrently. An organization may submit only one proposal under this announcement.

Note: National, state-wide, and regional organizations may not apply for these grants. For-profit hospitals and local school districts are also ineligible, although they can be included in the project as a member of the community coalition they may not be the fiscal agent.

Local affiliates of national, state-wide, or regional organizations that meet the definition of a minority community-based organization are eligible to apply.

Availability of Funds

About $2.5 million is expected to be available for award in FY 2001. It is expected that 17 to 25 awards will be made.

Note: It is anticipated that $600,000 of the total funding will be awarded to projects that include HIV/AIDS as one of the targeted health problem areas.

Those applicants chosen through the competitive review process:

• Are to begin their service demonstration programs on July 1, 2001.

• Will receive an award ranging from $75,000 to $150,000 total costs (direct and indirect) for a 12 month period.

• Will be able to receive noncompeting continuation awards for an additional 2 years. After year 1, funding is based on:

—The amount of money available; and

—Success or progress in meeting project objectives.

Note: For the non-competing continuation awards, grantees must submit continuation applications, written reports, and continue to meet the established funding guidelines.

• Continuation awards are expected to range from $75,000 to $150,000. Actual funding levels will depend on the availability of funds.

Use of Grant Funds

Budgets ranging from $75,000 to $150,000 total costs (direct and indirect) may be requested per year to cover costs of;

• Personnel

• Consultants

• Supplies including screening and outreach materials

• Equipment

• Grant related travel

• Other grant related costs

Funds may not be used for:

• Medical treatment

• Building alterations or renovations

• Construction

Note: All budget requests must be fully justified in terms of the proposed purpose and objectives. Funds to attend an annual OMH grantee meeting must be included in the budget.

Background

This program is based on the hypothesis that the community coalition approach to health promotion and risk reduction can be effective in reaching minority target populations—especially those most at risk or hard to reach. Among the merits of using coalitions is the higher likelihood that:

1. The intervention will be culturally sensitive, credible, and more acceptable to the target population;

2. The project will address the health problem(s) within the context of related socio-economic issues; and

3. The effort will contribute to overall community empowerment by strengthening indigenous leadership and organizations.

The OMH is continuing, through this FY 2001 announcement, to promote the utilization of community coalitions to develop and implement health education, promotion, and disease risk reduction programs.

In FY 2001, eligibility for the Community Programs to Improve Minority Health Grant Program is being expanded to include HBCUs, HSIs, and TCUs because of their unique and, in many instances, historical relationship with the target communities.

Also in FY 2001, the Community Programs to Improve Minority Health Grant Program will target 21 of the health areas which are part of the Healthy People 2010. (Refer to the section on Health Areas to be Addressed in this announcement.) Applicants are to design innovative programs to address at least 1, but no more than 3, of these areas.

To learn more about the health disparities that exist among racial and ethnic minorities in the United States today, read applicable sections of Healthy People 2010. (See the section on Healthy People 2010 in this announcement for information on how to obtain a copy.)

Note: The Healthy People 2010 focus areas will also be listed in the grant application kit.

Project Requirements

Each project funded under this demonstration program is to:

1. Address at least 1, but no more than 3, of the health problem areas identified in the section on Health Areas to be Addressed.

2. Have an established coalition prior to submission of an application that is capable of ensuring that the target population is provided with a continuum of appropriate health care services and support.

The coalition must have the capacity to:

• Plan and coordinate services which reduce existing sociocultural and/or linguistic barriers to health care; and

• Carry out screening, outreach, and enabling services to ensure that clients follow up with treatment and treatment referrals.

3. Include at least 3 discrete entities in the coalition. This must include a minority community-based organization and a health care facility.

A single, signed agreement between the applicant organization, the health care facility, and the remaining coalition member(s) must be submitted with the application. The agreement must specify in detail the roles and resources that each entity will bring to the project, and the terms of the linkage. The linkage agreement must cover the entire project period.

The document must be signed by individuals with the authority to represent the organization (e.g., chief executive officer, executive director, president/chancellor, school principal).

Health Areas to be Addressed

In FY 2001, the Community Programs to Improve Minority Health Program will target 21 health areas which are part of the Healthy People 2010 focus areas.

An applicant is required to address at least 1, but no more than 3 of the following health areas for its demonstration project:

• Access to Quality Health Services

• Arthritis, Osteoporosis, and Chronic Back Conditions

• Cancer

• Chronic Kidney Disease

• Diabetes

• Environmental Health

• Family Planning

• Heart Disease and Stroke

• HIV

• Immunization and Infectious Disease

• Injury and Violence Prevention

• Maternal, Infant, and Child Health

• Mental Health and Mental Disorders

• Nutrition and Overweight

• Oral Health

• Physical Activity and Fitness

• Respiratory Diseases

• Sexually Transmitted Diseases

• Substance Abuse

• Tobacco Use

• Vision and Hearing

Application Kit

• For this grant, Form PHS 5161-1 (Revised June 1999 and approved by OMB under Control Number 0937-0189) must be used.

• An applicant is advised to pay close attention to the specific program guidelines and general instructions provided in the application kit.

• To get an application kit, write to: Ms. Karen Campbell, Acting Grants Management Officer, Division of Management Operations, Office of Minority Health, Rockwall II Building, Suite 1000, 5515 Security Lane, Rockville, MD 20852; or call Karen Campbell at (301) 594-0758.

Where To Send Applications

Send the original and 2 copies of the complete grant application to: Ms. Karen Campbell, Acting Grants Management Officer, Division of Management Operations, Office of Minority Health, Rockwall II Building, Suite 1000, 5515 Security Lane, Rockville, MD 20852.

Application Deadline

To receive consideration, grant applications must be received by the OMH Grants Management Office by May 18, 2001. Applications will be considered as meeting the deadline if they are: (1) Received on or before the deadline date, or (2) postmarked on or before the deadline date and received in time for orderly processing. A legibly dated receipt from a commercial carrier or U.S. Postal Service will be accepted in lieu of a postmark. Private metered postmarks will not be accepted as proof of timely mailing. Applications submitted by facsimile transmission (FAX) or any other electronic format will not be accepted. Applications which do not meet the deadline will be considered late and will be returned to the applicant unread.

How To Get Help

In addition to contacting Karen Campbell for application kits, she may also be contacted for technical assistance on budget and business aspects of the application. For questions on the program and assistance in preparing a grant proposal, contact: Ms. Cynthia H. Amis, Director, Division of Program Operations, Office of Minority Health, Rockwall II Building, Suite 1000, 5515 Security Lane, Rockville, MD 20852; or call: Cynthia Amis at (301) 594-0769.

For additional assistance contact the OMH Regional Minority Health Consultants listed in the grant application kit.

For health information call the OMH Resource Center at 1-800-444-6472.

Review of Applications

• Applications will be screened upon receipt. Applications that are not complete or that do not conform to or address the criteria of the announcement will be returned without comment.

• Each organization may submit no more than one proposal under this announcement.

• Organizations submitting more than one proposal will be deemed ineligible. The proposals will be returned without comment.

• Accepted applications will be reviewed for technical merit in accordance with PHS policies.

• Applications will be evaluated by an Objective Review Panel. Panel members are chosen for their expertise in minority health and their understanding of the unique health problems and related issues confronted by the racial/ethnic minority populations in the United States.

Application Review Criteria

The technical review of applications will consider the following 5 generic factors.

Factor 1: Background (15%)

• Demonstrated knowledge of the problem at the local level

• Demonstrated need within the proposed community and target population

• Demonstrated ties to the community

• Demonstrated support and established linkage(s) in order to conduct proposed model

• Extent and documented outcome of past efforts/activities with the target population

Factor 2: Objectives (15%)

• Merit of the objectives

• Relevance to the program purpose and stated problem

• Attainability of the objectives in the stated time frames

Factor 3: Methodology (35%)

• Appropriateness of proposed approach and specific activities for each objective

• Logic and sequencing of the planned approaches in relation to the objectives and program evaluation

• Extent to which the applicant demonstrates access to the target population

• Soundness of the established linkages

Factor 4: Evaluation (20%)

• Thoroughness, feasibility and appropriateness of the evaluation design, data collection and analysis procedures

• Clarity of the intent and plans to document the activities and their outcomes

• Potential for replication of the project for similar target populations and communities

Factor 5: Management Plan (15%)

• Applicant organization's capability to manage and evaluate the project as determined by:

• The qualifications of proposed staff or requirements for “to be hired” staff

• Proposed staff level of effort

• Management experience of the applicant

• Experience of each coalition member as it relates to its defined roles and the project

• Clear lines of authority and accountability among the proposed staff within and between participating organizations

Award Criteria

Funding decisions will be determined by the Deputy Assistant Secretary for Minority Health, OMH and will take under consideration:

• The recommendations and ratings of the review panel

• Geographic and racial/ethnic distribution

• Whether the proposed project will take place in Empowerment Zones and Enterprise Communities

Reporting and Other Requirements

General Reporting Requirements

A successful applicant under this notice will submit: (1) Progress reports; (2) an annual Financial Status Report; and (3) a final progress report and Financial Status Report in the format established by the OMH, in accordance with provisions of the general regulations which apply under “Monitoring and Reporting Program Performance,” 45 CFR Part 74.51—74.52, with the exception of State and local governments to which 45 CFR Part 92, Subpart C reporting requirements apply.

Provision of Smoke-Free Workplace and Non-use of Tobacco Products by Recipients of PHS Grants

The PHS strongly encourages all grant recipients to provide a smoke-free workplace and to promote the non-use of all tobacco products. In addition, Public Law 103-227, the Pro-Children Act of 1994, prohibits smoking in certain facilities (or in some cases, any portion of a facility) in which regular or routine education, library, day care, health care or early childhood development services are provided to children.

Public Health System Reporting Requirements

This program is subject to Public Health Systems Reporting Requirements. Under these requirements, a community-based nongovernmental applicant must prepare and submit a Public Health System Impact Statement (PHSIS). The PHSIS is intended to provide information to State and local health officials to keep them apprised of proposed health services grant applications submitted by community-based organizations within their jurisdictions.

Community-based nongovernmental applicants are required to submit, no later than the Federal due date for receipt of the application, the following information to the head of the appropriate State and local health agencies in the area(s) to be impacted: (a) a copy of the face page of the application (SF 424), and (b) a summary of the project (PHSIS), not to exceed one page, which provides: (1) a description of the population to be served, (2) a summary of the services to be provided, and (3) a description of the coordination planned with the appropriate State or local health agencies. Copies of the letters forwarding the PHSIS to these authorities must be contained in the application materials submitted to the Office of Minority Health.

State Reviews

This program is subject to the requirements of Executive Order 12372 which allows States the option of setting up a system for reviewing applications from within their States for assistance under certain Federal programs. The application kit available under this notice will contain a list of States which have chosen to set up a review system and will include a State Single Point of Contact (SPOC) in the State for review. Applicants (other than federally recognized Indian tribes) should contact their SPOCs as early as possible to alert them to the prospective applications and receive any necessary instructions on the State process. For proposed projects serving more than one State, the applicant is advised to contact the SPOC of each affected State. The due date for State process recommendations is 60 days after the application deadline established by the Office of Minority Health's Acting Grants Management Officer. The Office of Minority Health does not guarantee that it will accommodate or explain its responses to State process recommendations received after that date. (See “Intergovernmental Review of Federal Programs” Executive Order 12372 and 45 CFR Part 100 for a description of the review process and requirements).

Healthy People 2010: The PHS is committed to achieving the health promotion and disease prevention objectives of Healthy People 2010, a PHS-led national activity announced in January 2000 to eliminate health disparities and improve years and quality of life. More information may be found on the Healthy People 2010 web site: http://www.health.gov/healthypeople. Copies of the Healthy People 2010: Volumes I and II can be purchased by calling (202) 512-1800 (cost $70.00 for printed version; $19.00 for CD-ROM). Another reference is the Healthy People 2000 Review 1998-99.

For a free copy of Healthy People 2010, contact: The National Center for Health Statistics (NCHS), Division of Data Services, 6525 Belcrest Road, Hyattsville, MD 20782-2003; or, telephone (301) 458-4636; ask for DHHS Publication No. (PHS) 99-1256.

This document may also be downloaded from the NCHS web site http://www.cdc.gov/nchs.

Definitions

For purposes of this grant announcement, the following definitions are provided:

Community-Based Organizations—Private nonprofit organizations and public organizations that are representative of communities or significant segments of communities where the control and decision-making powers are located at the community level.

Community Coalition—At least three (3) discrete organizations and institutions in a given community. The organizations work together on specific community concerns, and seek resolution of those concerns. A formalized relationship documented by written memoranda of understanding/agreement signed by individuals with the authority to represent the organizations (e.g., chief executive officer, executive director, president/chancellor, school principal) is required.

Health Care Facility—A private nonprofit or public facility that has an established record for providing comprehensive health care services to a targeted, racial/ethnic minority community.

A health care facility may be a hospital, outpatient medical facility, community health center, migrant health center, or a mental health center. Facilities providing only screening and referral activities are not included in this definition.

Hispanic Serving Institutions—Any local education agency or institution of higher education, respectively, whose student population is more than 25 percent Hispanic (Executive Order 12900, February 22, 1994, Educational Excellence for Hispanic Americans, Section 5).

Historically Black Colleges and Universities—Institutions established prior to 1964, whose principal mission was, and is, the education of black Americans. (National Center for Education Statistics. Compendium: Historically Black Colleges and Universities: 1976-1994. September 1996. [NCES 96-902]).

Intervention—A combination of services designed to alter or modify a condition or outcome, or to change behavior to reduce the likelihood of a preventable health problem occurring or progressing further. Services include:

—Clinical preventive services (e.g., blood pressure screening)

—Information dissemination

—Environmental modifications

—Educational activities

—Coordinated networking activities among health and human service related programs (e.g., referral for child care services, job placement, literacy programs)

Minority Community-Based Organizations—Private non-profit, community-based organizations or local affiliates of national organizations that have a governing board composed of 51 percent or more racial/ethnic minority members and have a significant number of minorities employed in key program positions.

Minority Populations

• American Indian or Alaska Native

• Asian

• Black or African American

• Hispanic or Latino

• Native Hawaiian or Other Pacific Islander

(Revision to the standards for the classification of Federal Data on Race and Ethnicity, Federal Register, Vol. 62, No. 210, pg. 58782, October 30, 1997)

Risk Factor—-The environmental and behavioral influences capable of causing ill health with or without predisposition.

Sociocultural Barriers—Policies, practices, behaviors, and beliefs that create obstacles to health care access and service delivery. Examples of sociocultural barriers include:

• Cultural differences between individuals and institutions

• Cultural differences of beliefs about health and illness

• Customs and lifestyles

• Cultural differences in languages or nonverbal communication styles

Tribal Colleges and Universities—Those institutions cited in section 532 of the Equity in Education Land-Grants Status Act of 1994 (U.S.C. 301 note) or that qualify for funding under the Tribally Controlled Community College Assistance Act of 1978, (25 U.S.C. 1801 et seq.), and Navajo Community College, authorized in the Navajo Community College Assistance Act of 1978, Public Law 95-471, Title II (25 U.S.C. 640a note).

Dated: March 8, 2001.
Nathan Stinson, Jr.,
Deputy Assistant Secretary for Minority Health.

[FR Doc. 01-6714 Filed 3-16-01; 8:45 am]

BILLING CODE 4160-17-P